ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Monday, Tuesday, and Wednesday, January 8-10, 2001, at the times and location noted below.

DATES: The schedule of events is as follows:

Monday, January 8, 2001

1:00 p.m.-5:00 p.m.

Committee of the Whole—Americans with Disabilities Act / Architectural Barriers Act Final Rule (Closed Meeting)

Tuesday, January 9, 2001

9:00 a.m.-Noon

Committee of the Whole—Americans with Disabilities Act / Architectural Barriers Act Final Rule (Closed Meeting)

1:30 p.m.-2:30 p.m.

Technical Programs Committee

2:30 p.m.-4:00 p.m.

Committee of the Whole—Briefing on Recreation Facilities Final Rule (Closed Meeting)

4:00 p.m.-5:00 p.m.

Planning and Budget Committee

Wednesday, January 10, 2001

9:00 a.m.-10:30 a.m.

Executive Committee

10:30 a.m.-Noon

Board Meeting

4:45 p.m.-6:30 p.m.

Public Rights-of-Way Access Advisory Committee Presentation

6:30 p.m.-7:30 p.m.

Public Rights-of-Way Access Advisory Committee Awards Presentation and Reception

ADDRESSES: The meetings will be held at the Washington Renaissance Hotel, 999 9th Street, NW, Washington, DC. The Public Rights of Way Access Advisory Committee Presentation and Awards Reception will be held at the Marriott Wardman Park Hotel, 2660 Woodley Road, NW, Washington, DC.

FOR FURTHER INFORMATION CONTACT: For further information regarding the meetings, please contact Lawrence W. Roffee, Executive Director, (202) 272-5434, extension 113 (voice) and (202) 272-5449 (TTY).

SUPPLEMENTARY INFORMATION: At the Board meeting, the Access Board will consider the following agenda items.

Open Meeting

• Executive Director's Report

• Approval of the Minutes of the September 13, 2000 Board Meeting

• Executive Committee Report—Public Rights-of-Way Access Advisory Committee Charter Amendment and Nominating Committee.

• Planning and Budget Committee Report—Status Report on Fiscal Year 2001 Budget and Report on 2002 Budget

• Technical Programs Committee Report—Report on Fiscal Years 1998 to 2001 Research and Technical Assistance Projects

Closed Meeting

• Committee of the Whole Report on the Americans with Disabilities Act / Architectural Barriers Act Final Rule

• Committee of the Whole Report on Recreation Facilities Final Rule

All meetings are accessible to persons with disabilities. Sign language interpreters and an assistive listening system are available at all meetings. Persons attending Board meetings are requested to refrain from using perfume, cologne, and other fragrances for the comfort of other participants.

Lawrence W. Roffee,
Executive Director.

[FR Doc. 00-32413 Filed 12-19-00; 8:45 am]

BILLING CODE 8150-01-P